DEPARTMENT OF HEALTH AND HUMAN SERVICES

National Institutes of Health

Prospective Grant of Exclusive License: Analytical Instruments Utilizing Condensation Particle Counters for the Detection and Analysis of Small Aerosol Particles

AGENCY: Public Health Service, National Institutes of Health, HHS.

ACTION: Notice.

SUMMARY: This is notice, in accordance with 35 U.S.C. 209 and 37 CFR part 404, that the Public Health Service, Department of Health and Human Services, is contemplating the grant of an exclusive license to Kanomax Japan, Inc. having a principal place of business in Osaka, Japan, to practice the inventions embodied in U.S. Provisional Patent Application No. 62/026,559, filed on 18 July 2014, entitled “Aerosol Particle Growth Systems for Personal Sampling Applications Using Polymer Electrolyte Membranes” [HHS Reference No. E-026-2014/0-US-01]. The patent rights in these inventions have been assigned to the United States of America. The territory of the prospective exclusive patent license may be worldwide, and the field of use may be limited to “Analytical instruments comprising condensation particle counters (CPCs) for the sampling, detection, counting and analysis of ultrafine and nano-sized aerosol particles.”

DATES: Only written comments and/or applications for a license that are received by the NIH Office of Technology Transfer on or before November 2, 2015 will be considered.

ADDRESSES: Requests for a copy of the patent application, inquiries, comments and other materials relating to the contemplated license should be directed to: Tara L. Kirby, Ph.D., Chief, CDC Unit, Office of Technology Transfer, National Institutes of Health, 6011 Executive Boulevard, Suite 325, Rockville, MD 20852-3804; Telephone: (301) 435-4426; Facsimile: (301) 402-0220; Email: tarak@mail.nih.gov. A signed confidential disclosure agreement may be required to receive copies of the patent application assuming it has not already been published under the publication rules of either the United States Patent and Trademark Office or the World Intellectual Property Organization.

SUPPLEMENTARY INFORMATION: Hazardous airborne particles pose a risk for health and safety in a variety of environments and thus detection of these small particles is essential. Current particle magnification systems are bulky and require a lot of power for operation, making them unsuitable to easily detect and analyze small particles in mobile and personal settings.

The CDC has developed space-saving miniature instrumentation and methods for the direct sampling and analysis of small particles (diameter <300-400 nm). The systems can effectively sample air at a rate of a few liters per minute and concentrate the particulate matter into microliter or milliliter liquid samples. The novel system uses proton exchange membranes to grow small particles for optical detection using standard methods. Further, these methods allow the system to separate condensation and aerosol flow to enhance user mobility. Moreover, the described methods use inexpensive materials and require low power for operation.

The prospective exclusive license will be royalty bearing and will comply with the terms and conditions of 35 U.S.C. 209 and 37 CFR part 404. The prospective exclusive license may be granted unless, within thirty (30) days from the date of this published notice, the NIH Office of Technology Transfer receives written evidence and argument that establishes that the grant of the contemplated license would not be consistent with the requirements of 35 U.S.C. 209 and 37 CFR part 404.

Properly filed competing applications for a license in the prospective field of use that are filed in response to this notice will be treated as objections to the contemplated license. Comments and objections submitted in response to this notice will not be made available for public inspection, and, to the extent permitted by law, will not be released under the Freedom of Information Act, 5 U.S.C. 552.

Dated: September 28, 2015.
Richard U. Rodriguez,
Acting Director, Office of Technology Transfer, National Institutes of Health.

[FR Doc. 2015-24985 Filed 10-1-15; 8:45 am]

BILLING CODE 4140-01-P